FEDERAL COMMUNICATIONS COMMISSION

[CC Docket No. 92-237; DA 03-1165]

Next Meeting of the North American Numbering Council

AGENCY: Federal Communications Commission.

ACTION: Notice.

SUMMARY: On April 24, 2003, the Commission released a public notice announcing the May 13, 2003, meeting and agenda of the North American Numbering Council (NANC). The intended effect of this action is to make the public aware of the NANC's next meeting and its agenda.

DATES: Tuesday, May 13, 2003, 9 a.m.

ADDRESSES: Telecommunications Access Policy Division, Wireline Competition Bureau, Federal Communications Commission, The Portals II, 445 12th Street, SW., Suite 5-A420, Washington, DC 20554. Requests to make an oral statement or provide written comments to the NANC should be sent to Deborah Blue.

FOR FURTHER INFORMATION CONTACT: Deborah Blue, Special Assistant to the Designated Federal Officer (DFO) at (202) 418-1466 or dblue@fcc.gov. The fax number is: (202) 418-2345. The TTY number is: (202) 418-0484.

SUPPLEMENTARY INFORMATION: Released: April 24, 2003.

The North American Numbering Council (NANC) has scheduled a meeting to be held Tuesday, May 13, 2003, from 9 a.m. until 5 p.m. The meeting will be held at the Federal Communications Commission, Portals II, 445 12th Street, SW., Room TW-C305, Washington, DC. This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting.

Proposed Agenda—Tuesday, May 13, 2003, 9 a.m.

1. Announcements and Recent News.

2. Approval of Minutes: Meeting of March 19, 2003.

3. Report of the North American Numbering Plan Administrator (NANPA): CO Code Activity Report, NPA Relief Planning status, NPA exhaust projections (if available), NRUF update.

4. Report of National Thousands Block Pooling Administrator: Activity report.

5. Report of 3-Digit DIG IMG.

6. Report of Oversight Working Group: NANPA 2002 Performance Report, Report and Analysis of PAS Forecast Processing (Verizon Dispute), Recommendation for Change Order 18, Monthly meeting with NANPA.

7. Status of Industry Numbering Committee activities.

8. Report of the Local Number Portability Administration (LNPA) Working Group: Wireless Number Portability Operations (WNPO) Subcommittee.

9. Report from NBANC.

10. Report of Cost Recovery Working Group.

11. Update on USF IMG.

12. Summary of Action Items.

13. Steering Committee: Table of NANC Projects.

14. Public Comments and Participation (5 minutes per speaker).

15. Other Business.

Adjourn no later than 5 p.m.

Federal Communications Commission.
Cheryl L. Callahan,
Assistant Chief, Telecommunications Access Policy Division, Wireline Competition Bureau.

[FR Doc. 03-10567 Filed 4-29-03; 8:45 am]

BILLING CODE 6712-01-P